DEPARTMENT OF TRANSPORTATION

Federal Aviation Administration

[Docket No. 2024-1721]

Agency Information Collection Activities: Requests for Comments; Clearance of Renewed Approval of Information Collection: PIREP Form FAA Form 7110-2

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 03, 2024. The collection involves an aircraft pilot's voluntary submission of weather conditions that were encountered while in flight. The information to be collected is necessary because Pilot Report (PIREP) Solicitation and Dissemination has been identified by the ATO as one of the Top 5 hazards in the National Airspace System (NAS). For certain weather conditions, PIREPs are the only means of confirmation that forecasted conditions are occurring. The FAA 7110-2 PIREP Form is a guide to assist pilots in submitting Pilot Weather Reports into the NAS.

DATES: Written comments should be submitted by November 20, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Katie J. Ludwig by email at: katie.j.ludwig@faa.gov; phone: 202-267-6195.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0801.

Title: PIREP Form FAA form 7110-2.

Form Numbers: FAA 7110-2.

Type of Review: Renewal of an information collection.

Background: The Federal Register Notice with a 60-day comment period soliciting comments on the following collection of information was published on July 03, 2024 (89 FR 55301). Pilot reporting of weather conditions, commonly referred to as PIREPs, has been standard procedure during most of the twentieth century. PIREPs are voluntary reports from pilots describing weather conditions observed while flying. In some instances, PIREPs are the only way for forecasters to confirm the forecasted conditions are occurring. Complete, accurate, and timely weather information from PIREPs is an essential element of flight safety for all aircraft operations in the National Airspace System (NAS). This information is used by pilots to avoid inadvertent encounters with hazardous weather and preventing weather-related accidents. Pilots most commonly submit PIREPs verbally via radio to air traffic control (ATC). The PIREP Form, FAA Form 7110-2, is a tool to assist ATC personnel and pilots to report the conditions encountered in the proper format. It is essential that the weather conditions in a PIREP be reported be in the correct format to ensure the timely dissemination and availability to the users of the NAS, to include pilots, ATC, National Weather Service (NWS) meteorologists, and weather researchers. The collection of PIREPs is as needed.

Respondents: Pilots.

Frequency: On occasion, depending on the weather conditions encountered.

Estimated Average Burden per Response: Three minutes per hour.

Estimated Total Annual Burden: <1 hour per respondent.

Issued in Washington, DC on October 15, 2024.
Katie Jo Ludwig,
Air Traffic Control Specialist, AJR-B100.

[FR Doc. 2024-24282 Filed 10-18-24; 8:45 am]

BILLING CODE 4910-13-P